DEPARTMENT OF ENERGY

Federal Energy Regulatory Commission

[Docket No. RP03-306-000]

Gulf South Pipeline Company, LP; Notice of Proposed Changes to FERC Gas Tariff

March 20, 2003.

Take notice that on March 17, 2003, Gulf South Pipeline Company, LP (Gulf South) tendered for filing as part of its FERC Gas Tariff, Sixth Revised Volume No. 1, Fourth Revised Sheet No. 306; First Revised Sheet No. 307; and First Revised Sheet No. 308, to become effective April 17, 2003.

Gulf South is making this filing to combine Second Substitute Second Revised Sheet No. 306 and Third Revised Sheet No. 306 previously approved by the Commission in Dockets RP02-151-005 and RP03-10-000, respectively.

Gulf South states that copies of this filing have been served upon Gulf South's customers, state commissions and other interested parties.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 31, 2003.

Magalie R. Salas,
Secretary.

[FR Doc. 03-7330 Filed 3-26-03; 8:45 am]

BILLING CODE 6717-01-P